DEPARTMENT OF THE INTERIOR

Bureau of Reclamation

Glen Canyon Dam Adaptive Management Work Group (AMWG), and Glen Canyon Technical Work Group (TWG); Cancellation of Meetings

AGENCY: Bureau of Reclamation, Interior.

ACTION: Notice of public meetings; cancellation.

SUMMARY: The Bureau of Reclamation is canceling the Adaptive Management Work Group Meeting Scheduled for July 17-18, 2001, in Phoenix, Arizona, in order to complete work on the Strategic Plan and other assignments. The meeting will be rescheduled for early October 2001 and will be noticed in the Federal Register when arrangements have been made.

Dates and Location: The Glen Canyon Technical Work Group will conduct the following public meeting.

Flagstaff, Arizona—August 7, 2001

The meeting will begin at 9:30 a.m. and conclude at 5:00 p.m. The meeting will be held at the Residence Inn, 3440 N. Country Club Drive, Flagstaff, Arizona.

Agenda: The purpose of the meeting will be to discuss the Strategic Plan, and other administrative and resource issues pertaining to the AMP.

Agenda items may be revised prior to any of the meetings. Final agendas will be posted 15 days in advance of each meeting and can be found on the Bureau of Reclamation website under Environmental Programs at: http://www.uc.usbr.gov. Time will be allowed on each agenda for any individual or organization wishing to make formal oral comments (limited to 10 minutes) at the meetings.

ADDRESSES: To allow full consideration of information by the AMWG and TWG members, written notice must be provided to Randall Peterson, Bureau of Reclamation, Upper Colorado Regional Office, 125 South State Street, Room 6107, Salt Lake City, Utah 84138-1147; telephone (801) 524-3758; faxogram (801) 524-3858; E-mail at rpeterson@uc.usbr.gov at least FIVE (5) days prior to the meeting. Any written comments received will be provided to the AMWG and TWG members at the meetings.

FOR FURTHER INFORMATION CONTACT: Randall Peterson, telephone (801) 524-3758; faxogram (801) 524-3858; rpeterson@uc.usbr.gov.

Dated: June 14, 2001.
Rick L. Gold,
Regional Director.

[FR Doc. 01-16007 Filed 6-26-01; 8:45 am]

BILLING CODE 4310-MN-M